SOCIAL SECURITY ADMINISTRATION

[Docket No. SSA-2009-0061]

Modifications to the Disability Determination Procedures; Extension of Testing of Some Disability Redesign Features

AGENCY: Social Security Administration.

ACTION: Notice of the extension of tests involving modifications to the disability determination procedures.

SUMMARY: We are announcing the extension of tests involving modifications to disability determination procedures authorized by 20 CFR 404.906 and 416.1406. These rules authorize us to test several modifications to the disability determination procedures for adjudicating claims for disability insurance benefits under title II of the Social Security Act (Act) and for supplemental security income payments based on disability under title XVI of the Act.

DATES: We are extending our selection of cases to be included in these tests from September 30, 2009 until no later than September 28, 2012. If we decide to continue selection of cases for these tests beyond this date, we will publish another notice in the Federal Register.

FOR FURTHER INFORMATION CONTACT: Michele Schaefer, Office of Disability Programs, Social Security Administration, 6401 Security Boulevard, Baltimore, MD 21235-6401, 410-594-0083, for information about this notice. For information on eligibility or filing for benefits, call our national toll-free number, 1-800-772-1213 or TTY 1-800-325-0778, or visit our Internet site, Social Security Online, at http://www.socialsecurity.gov.

SUPPLEMENTARY INFORMATION: Our current rules authorize us to test, individually or in any combination, certain modifications of the disability determination procedures. 20 CFR 404.906 and 416.1406. We have conducted several tests under the authority of these rules. In the “single decisionmaker,” test, a disability examiner may make the initial disability determination in most cases without obtaining the signature of a medical or psychological consultant. We also have conducted a separate test, which we call the “prototype,” in 10 States. 64 FR 47218. Currently, the prototype combines the single decisionmaker approach described above with the elimination of the reconsideration level of our administrative review process.

We have extended the time period for selecting claims for these tests several times. Most recently, on August 10, 2006, we extended the time period until September 30, 2009. 71 FR 45890. We have decided to extend case selection for the current disability prototype process (single decisionmaker and elimination of the reconsideration step) and for the separate test of the single decisionmaker until September 28, 2012. If we decide to end case selection for any part of the disability prototype in any the 10 States in which we are conducting the tests prior to September 28, 2012, we will publish another notice in the Federal Register.

Dated: September 18, 2009.
David A. Rust,
Deputy Commissioner for Retirement and Disability Policy.

[FR Doc. E9-23110 Filed 9-23-09; 8:45 am]

BILLING CODE 4191-02-P